DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for the date that sanctions become effective.

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On December 1, 2020, OFAC determined that the property and interests in property subject to U.S. jurisdiction of the following persons are blocked under the relevant sanctions authorities listed below.

Individuals

1. CORREA SALAS, Euclides, Turbo, Antioquia, Colombia; DOB 15 Mar 1975; POB Choco, Colombia; nationality Colombia; Gender Male; Cedula No. 71983546 (Colombia) (individual) [SDNTK]. Designated pursuant to section 805(b)(3) of the Foreign Narcotics Kingpin Designation Act (Kingpin Act), 21 U.S.C. 1904(b)(3), for being owned, controlled, or directed by, or acting for or on behalf of, Jhon Fredy ZAPATA GARZON, a foreign person designated pursuant to the Kingpin Act.

2. MURILLO PALACIOS, Einer, Calle 115 No. 114BB-77 Apartamento 102 Primer Piso Edificio Siete Manzana T Quinta Etapa Urbanizacion La Serrania, Apartado, Antioquia 00853657, Colombia; DOB 08 Nov 1977; POB Quibdo, Choco, Colombia; nationality Colombia; Gender Male; Cedula No. 71253050 (Colombia) (individual) [SDNTK]. Designated pursuant to section 805(b)(3) of the Kingpin Act, 21 U.S.C. 1904(b)(3), for being owned, controlled, or directed by, or acting for or on behalf of, Jhon Fredy ZAPATA GARZON, a foreign person designated pursuant to the Kingpin Act.

3. ZAPATA GARZON, Jhon Fredy (a.k.a. ZAPATA GARZON, John Fredy; a.k.a. “CANDADO”; a.k.a. “CANDADO MESSI”; a.k.a. “TUSO”), Vereda El Silencio, Carepa, Antioquia 05147, Colombia; Av. Cra. 7, No. 130-00, Bogota, Colombia; Carrera 78, Barrio Pueblo Nuevo, Verada Carepa, Apartado, Antioquia 00829455, Colombia; Finca El Reposo, Vereda Aguas Claras, Necocli, Antioquia 034937, Colombia; Finca Mariancel N-1, Vereda Aguas Claras, Necocli, Antioquia 034938, Colombia; Finca La Diana, Finca Mariancel N-5, Vereda Aguas Claras, Necocli, Antioquia 03414390, Colombia; Finca Aguas Claritas, Finca Mariancel N-3, Vereda Aguas Claras, Necocli, Antioquia 03417, Colombia; El Billar, Vereda Cacique, La Tebaida, Quindio 28040222, Colombia; Transversal 21 No. 18-180 Unid. Residencial Senderos De La Pradera P.H. Apto. 202 Torre 3, Dosquebradas, Risaralda 29474418, Colombia; DOB 11 Apr 1978; POB Chigorodo, Antioquia, Colombia; nationality Colombia; Gender Male; Cedula No. 71253351 (Colombia); Passport AS700605 (Colombia) (individual) [SDNTK] (Linked To: CLAN DEL GOLFO). Designated pursuant to section 805(b)(2) of the Kingpin Act, 21 U.S.C. 1904(b)(2), for materially assisting in, or providing financial or technological support for or to, or providing goods or services in support of, the international narcotics trafficking activities of the CLAN DEL GOLFO, a foreign person identified as a significant foreign narcotics trafficker pursuant to the Kingpin Act.

4. ZAPATA GARZON, Tatiana Marguerid (a.k.a., ZAPATA GARZON, Tatiana Margarid), Apartado, Antioquia, Colombia; DOB 28 Aug 1983; POB Antioquia, Colombia; nationality Colombia; Gender Female; Cedula No. 39426288 (Colombia) (individual) [SDNTK]. Designated pursuant to section 805(b)(2) of the Kingpin Act, 21 U.S.C. 1904(b)(2), for materially assisting in, or providing financial or technological support for or to, or providing goods or services in support of, the international narcotics trafficking activities of Jhon Fredy ZAPATA GARZON, a foreign person designated pursuant to the Kingpin Act.

Entities

1. DISTRIECOR S.A.S. (f.k.a., GRUPO PATRON LTDA), Cra 106A, Nro. 94 15, Nuevo Apartado, Apartado 05045, Colombia; NIT #8110469383 (Colombia) [SDNTK]. Designated pursuant to section 805(b)(3) of the Kingpin Act, 21 U.S.C. 1904(b)(3), for being owned, controlled, or directed by, or acting for or on behalf of, Euclides CORREA SALAS, a foreign person designated pursuant to the Kingpin Act.

2. FRESNO HOME S.A.S. (f.k.a., AGROMADERAS ZAGAR S.A.S.), Kilometro 18 Vereda El Manzano Via Pereira Armenia, Pereira, Risaralda 66001, Colombia; NIT #9005402427 (Colombia) [SDNTK]. Designated pursuant to section 805(b)(3) of the Kingpin Act, 21 U.S.C. 1904(b)(3), for being owned, controlled, or directed by, or acting for or on behalf of, Tatiana Marguerid ZAPATA GARZON, a foreign person designated pursuant to the Kingpin Act.

3. LAS INGENIERIAS S.A.S., Calle 144 16-34, Apto. 404, Bogota 1020, Colombia; Condominio Quintas De La Rioja, Casa 10, Etapa 1, Pereira, Risaralda, Colombia; website lasingenierias.com; NIT #9005892411 (Colombia) [SDNTK]. Designated pursuant to section 805(b)(3) of the Kingpin Act, 21 U.S.C. 1904(b)(3), for being owned, controlled, or directed by, or acting for or on behalf of, Jhon Fredy ZAPATA GARZON, a foreign person designated pursuant to the Kingpin Act.

4. MULTIOPERACIONES DE OCCIDENTE S.A.S., Cra 106A, Nro 94 15, Nuevo Apartado, Apartado 05045, Colombia; NIT #9009355997 (Colombia) [SDNTK]. Designated pursuant to section 805(b)(3) of the Kingpin Act, 21 U.S.C. 1904(b)(3), for being owned, controlled, or directed by, or acting for or on behalf of, Einer MURILLO PALACIOS, a foreign person designated pursuant to the Kingpin Act.

Dated: December 1, 2020.
Andrea M. Gacki,
Director, Office of Foreign Assets Control.

[FR Doc. 2020-26807 Filed 12-4-20; 8:45 am]

BILLING CODE 4810-AL-P